DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by November 7, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531, et seq.). Written data, comments, or requests for copies of these complete applications should be submitted to the Director (address above).

Applicant: Peter H. Johnson, St. Albans, MO, PRT-077229

The applicant requests a permit to import the sport-hunted trophy of one male bontebok (Damaliscus pygargus dorcas) culled from a captive herd maintained under the management program of the Republic of South Africa, for the purpose of enhancement of the survival of the species.

Applicant: Gregory B. Jacobs, New York, NY, PRT-077237

The applicant requests a permit to import the sport-hunted trophy of one male bontebok (Damaliscus pygargus dorcas) culled from a captive herd maintained under the management program of the Republic of South Africa, for the purpose of enhancement of the survival of the species.

Applicant: Fred Hutchinson Cancer Research Center—Trask Lab, Seattle, WA, PRT-066400

The applicant requests a permit to acquire in interstate commerce cell line samples of gorilla (Gorilla gorilla) and orangutan (Pongo pygmaeus) for the purpose of scientific research. This notification covers activities to be conducted by the applicant over a five-year period.

Applicant: University of Central Florida, Orlando, FL, PRT-076985

The applicant requests a permit to import biological samples obtained from hawksbill sea turtle (Eretmochelys imbricata), as well as loggerhead sea turtle (Caretta caretta), and green sea turtle (Chelonia mydas), obtained from the wild in Oman, for the purpose of scientific research. This notification covers activities to be conducted by the applicant over a five-year period.

Dated: September 19, 2003.
Michael S. Moore,
Senior Permit Biologist, Branch of Permits, Division of Management Authority.

[FR Doc. 03-25471 Filed 10-7-03; 8:45 am]

BILLING CODE 4310-55-P